DEPARTMENT OF HEALTH AND HUMAN SERVICES

National Committee on Vital and Health Statistics: Meeting Standards Subcommittee

Pursuant to the Federal Advisory Committee Act, the Department of Health and Human Services (HHS) announces the following advisory committee meeting.

Name: National Committee on Vital and Health Statistics (NCVHS), Subcommittee on Standards.

Time and Date: June 10, 2014, 9:00 a.m.-5:00 p.m. EST.

Place: U.S. Department of Health and Human Services, Hubert H. Humphrey Building, 200 Independence Avenue SW., Room 705-A, Washington, DC 20024, (202) 690-7100.

Status: Open.

Purpose: The purpose of this hearing is to review and discuss the current status of selected administrative simplification activities that are a priority for NCVHS in 2014.

The objectives of this hearing will be to receive a regulatory update, review and discuss the annual Designated Standards Maintenance Organization (DSMO) Report; discuss the status of development of Operating Rules; review the status of the Coordination of Benefits transaction; discuss new developments in the use of credit cards (including virtual cards) for claim payment; review the status of standards development of Health Care Attachments; discuss the planning and preparation of Health Plan ID; review and discuss the incorporation and use of a Unique Device Identifier (UDI) in administrative transactions; and discuss the status of ICD-10 delay.

Contact Person for More Information: Debbie M. Jackson, Acting Executive Secretary, NCVHS, National Center for Health Statistics, Centers for Disease Control and Prevention, 3311 Toledo Road, Room 2339, Hyattsville, Maryland 20782, telephone (301) 458-4614 or Terri Deutsch, Centers for Medicare and Medicaid Services, Office of E-Health Standards and Services, 7500 Security Boulevard, Baltimore, Maryland 21244, telephone (410) 786-9462. Program information as well as summaries of meetings and a roster of committee members are available on the NCVHS home page of the HHS Web site: http://www.ncvhs.hhs.gov/, where further information including an agenda will be posted when available.

Should you require reasonable accommodation, please contact the CDC Office of Equal Employment Opportunity on (301) 458-4EEO (4336) as soon as possible.

Dated: May 13, 2014.
James Scanlon,
Deputy Assistant Secretary for Planning and Evaluation, Office of the Assistant Secretary for Planning and Evaluation.

[FR Doc. 2014-11934 Filed 5-22-14; 8:45 am]

BILLING CODE 4151-05-P